DEPARTMENT OF ENERGY

Federal Energy Regulatory Commission

Combined Notice of Filings #1

Take notice that the Commission received the following exempt wholesale generator filings:

Docket Numbers: EG18-79-000.

Applicants: Sholes Wind Energy, LLC.

Description: Notice of Self-Certification of Exempt Wholesale Generator Status of Sholes Wind Energy, LLC.

Filed Date: 5/1/18.

Accession Number: 20180501-5161.

Comments Due: 5 p.m. ET 5/22/18.

Take notice that the Commission received the following electric rate filings:

Docket Numbers: ER10-2390-003; ER10-2394-005; ER10-2395-005 ER10-2422-005; ER11-3642-018; ER12-1562-005 ER12-1563-005.

Applicants: Bicent (California) Malburg LLC, BIV Generation Company, L.L.C., Cayuga Operating Company, LLC, Colorado Power Partners, Rocky Mountain Power, LLC, Tanner Street Generation, LLC, Somerset Operating Company, LLC.

Description: Notice of Non-Material Change in Status of Bicent (California) Malburg LLC, et. al.

Filed Date: 4/30/18.

Accession Number: 20180430-5461.

Comments Due: 5 p.m. ET 5/21/18.

Docket Numbers: ER18-1184-000; ER18-1183-000.

Applicants: Delta Solar Power II, LLC, Delta Solar Power I, LLC.

Description: Supplement to March 22, 2018 Delta Solar Power I, LLC and Delta Solar Power II, LLC tariff filings.

Filed Date: 4/27/18.

Accession Number: 20180427-5308.

Comments Due: 5 p.m. ET 5/18/18.

Docket Numbers: ER18-1480-000.

Applicants: PJM Interconnection, L.L.C.

Description: § 205(d) Rate Filing: First Revised ISA, SA No. 2133, Queue No. AC1-140 to be effective 3/29/2018.

Filed Date: 4/30/18.

Accession Number: 20180430-5301.

Comments Due: 5 p.m. ET 5/21/18.

Docket Numbers: ER18-1481-000.

Applicants: Duke Energy Florida, LLC.

Description: § 205(d) Rate Filing: DEF IA Annual Cost Factor Update (2018) to be effective 5/1/2018.

Filed Date: 4/30/18.

Accession Number: 20180430-5328.

Comments Due: 5 p.m. ET 5/21/18.

Docket Numbers: ER18-1482-000.

Applicants: Pacific Gas and Electric Company.

Description: § 205(d) Rate Filing: Q1 2018 Quarterly Filing of City and County of San Francisco's WDT SA (SA 275) to be effective 3/31/2018.

Filed Date: 4/30/18.

Accession Number: 20180430-5343.

Comments Due: 5 p.m. ET 5/21/18.

Docket Numbers: ER18-1483-000.

Applicants: PJM Interconnection, L.L.C.

Description: § 205(d) Rate Filing: 1st Quarter 2018 Revisions to OA, Sch. 12 and RAA, Sch. 17 Member Lists to be effective 3/31/2018.

Filed Date: 4/30/18.

Accession Number: 20180430-5351.

Comments Due: 5 p.m. ET 5/21/18.

Docket Numbers: ER18-1485-000.

Applicants: New England Power Pool Participants Committee.

Description: § 205(d) Rate Filing: May 2018 Membership Filing to be effective 4/1/2018.

Filed Date: 5/1/18.

Accession Number: 20180501-5009.

Comments Due: 5 p.m. ET 5/22/18.

Docket Numbers: ER18-1486-000.

Applicants: AEP Ohio Transmission Company, Inc.

Description: § 205(d) Rate Filing: OHTCo-Buckeye Cardinal SA to be effective 6/30/2018.

Filed Date: 5/1/18.

Accession Number: 20180501-5010.

Comments Due: 5 p.m. ET 5/22/18.

Docket Numbers: ER18-1487-000.

Applicants: Southwestern Electric Power Company.

Description: § 205(d) Rate Filing: Rayburn Revised PSA to be effective 5/31/2018.

Filed Date: 5/1/18.

Accession Number: 20180501-5016.

Comments Due: 5 p.m. ET 5/22/18.

Docket Numbers: ER18-1488-000.

Applicants: AEP Texas Inc.

Description: § 205(d) Rate Filing: AEP TX-Texas-New Mexico Power IA 3rd Amend & Restated to be effective 4/16/2018.

Filed Date: 5/1/18.

Accession Number: 20180501-5273.

Comments Due: 5 p.m. ET 5/22/18.

Docket Numbers: ER18-1489-000.

Applicants: SP Cimarron I, LLC.

Description: § 205(d) Rate Filing: Market-Based Rate Tariff Amendment to Reflect Name Change to be effective 5/2/2018.

Filed Date: 5/1/18.

Accession Number: 20180501-5275.

Comments Due: 5 p.m. ET 5/22/18.

Docket Numbers: ER18-1490-000.

Applicants: AEP Texas Inc.

Description: § 205(d) Rate Filing: AEP TX-Patriot Wind Farm IA 4th Amend & Restated to be effective 4/13/2018.

Filed Date: 5/1/18.

Accession Number: 20180501-5278.

Comments Due: 5 p.m. ET 5/22/18.

Docket Numbers: ER18-1491-000.

Applicants: AEP Texas Inc.

Description: § 205(d) Rate Filing: AEPTX-Las Majadas Wind Farm Interconnection Agreement to be effective 4/13/2018.

Filed Date: 5/1/18.

Accession Number: 20180501-5280.

Comments Due: 5 p.m. ET 5/22/18.

Docket Numbers: ER18-1492-000.

Applicants: PJM Interconnection, L.L.C.

Description: § 205(d) Rate Filing: First Revised ISA, SA No. 4627; Queue No. AA1-076/AC1-108 to be effective 3/30/2018.

Filed Date: 5/1/18.

Accession Number: 20180501-5288.

Comments Due: 5 p.m. ET 5/22/18.

Docket Numbers: ER18-1493-000.

Applicants: Midcontinent Independent System Operator, Inc.

Description: § 205(d) Rate Filing: 2018-05-01_Order 825 Price Formation True-up Filing to be effective 7/1/2018.

Filed Date: 5/1/18.

Accession Number: 20180501-5293.

Comments Due: 5 p.m. ET 5/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2018.
Nathaniel J. Davis, Sr.,
Deputy Secretary.

[FR Doc. 2018-09614 Filed 5-4-18; 8:45 am]

BILLING CODE 6717-01-P